Executive Order 14354 of September 29, 2025

Continuance of Certain Federal Advisory Committees

By the authority vested in me as President by the Constitution and the laws of the United States of America, and consistent with chapter 10 of title 5, United States Code (commonly known as the Federal Advisory Committee Act), it is hereby ordered:

Section 1. Each advisory committee listed below is continued until September 30, 2027.

(a) Committee for the Preservation of the White House; Executive Order 11145, as amended (Department of the Interior).

(b) President's Commission on White House Fellowships; Executive Order 11183, as amended (Office of Personnel Management).

(c) President's National Security Telecommunications Advisory Committee; Executive Order 12382, as amended (Department of Homeland Security).

(d) National Industrial Security Program Policy Advisory Committee; Executive Order 12829, as amended (National Archives and Records Administration).

(e) Trade and Environment Policy Advisory Committee; Executive Order 12905 (Office of the United States Trade Representative).

(f) Presidential Advisory Council on HIV/AIDS; Executive Order 12963, as amended (Department of Health and Human Services).

(g) President's Committee for People with Intellectual Disabilities; Executive Order 12994, as amended (Department of Health and Human Services).

(h) Advisory Board on Radiation and Worker Health; Executive Order 13179 (Department of Health and Human Services).

(i) President's Council on Sports, Fitness, and Nutrition; Executive Order 13265, as amended (Department of Health and Human Services).

(j) Interagency Task Force on Veterans Small Business Development; Executive Order 13540 (Small Business Administration).

(k) State, Local, Tribal, and Private Sector (SLTPS) Policy Advisory Committee; Executive Order 13549 (National Archives and Records Administration).

(l) Bears Ears National Monument Advisory Committee; Proclamation 9558 of December 28, 2016, as amended (Department of the Interior).

(m) Gold Butte National Monument Advisory Committee; Proclamation 9559 of December 28, 2016 (Department of the Interior).

(n) Avi Kwa Ame National Monument Advisory Committee; Proclamation 10533 of March 21, 2023 (Department of the Interior).

(o) Baaj Nwaavjo I'tah Kukveni-Ancestral Footprints of the Grand Canyon National Monument Advisory Committee; Proclamation 10606 of August 8, 2023 (Department of the Interior).

(p) Religious Liberty Commission; Executive Order 14291 (Department of Justice).

(q) Chuckwalla National Monument Advisory Committee; Proclamation 10881 of January 14, 2025 (Department of the Interior).

(r) Sáttítla Highlands National Monument Advisory Committee; Proclamation 10882 of January 14, 2025 (Department of Agriculture).

(s) Good Neighbor Environmental Board; Executive Order 12916, as amended (Environmental Protection Agency).

(t) President's Board of Advisors on Historically Black Colleges and Universities; Executive Order 14283 (Department of Education).

(u) President's Council of Advisors on Science and Technology; Executive Order 14177 (Department of Energy).

(v) Grand Staircase-Escalante National Monument Advisory Committee; Proclamation 6920 of September 18, 1996, as amended (Department of the Interior).

Sec. 2. Notwithstanding the provisions of any other Executive Order, the functions of the President under the Federal Advisory Committee Act that are applicable to the committees listed in section 1 of this order shall be performed by the head of the department or agency designated after each committee, in accordance with the regulations, guidelines, and procedures established by the Administrator of General Services.

Sec. 3. Sections 1 and 2 of Executive Order 14109 of September 29, 2023, are hereby superseded by sections 1 and 2 of this order.

Sec. 4. This order shall be effective September 30, 2025.

Sec. 5. General Provisions. (a) Nothing in this order shall be construed to impair or otherwise affect:

(i) the authority granted by law to an executive department or agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

THE WHITE HOUSE,

September 29, 2025.

[FR Doc. 2025-19485

Filed 10-3-25; 11:15 am]

Billing code 3395-F4-P